DEPARTMENT OF HOUSING AND URBAN DEVELOPMENT

[Docket No. FR-4710-C-04]

Public Housing Assessment System (PHAS) Financial Condition and Physical Condition Interim Scoring Notices Correction; Location for Submission of Public Comments

AGENCY: Office of the General Counsel, HUD.

ACTION: Notice; correction.

SUMMARY: On November 26, 2001, HUD published two notices that advised of interim scoring processes under HUD's Public Housing Assessment System (PHAS) for the PHAS Physical Condition Indicator and for the PHAS Financial Condition Indicator. The notices also solicited public comment but omitted the location where public comments could be submitted. This notice provides that information.

FOR FURTHER INFORMATION CONTACT: For further information contact the Real Estate Assessment Center (REAC), Attention: Wanda Funk, U.S. Department of Housing and Urban Development, 1280 Maryland Avenue, SW, Suite 800, Washington, DC 20024, telephone REAC's Customer Service Center at (888) 245-4860 (this is a toll free number) or the Office of Public and Indian Housing, Attention: Judy Wojciechowski, Director of PHAS Operations, U.S. Department of Housing and Urban Development, 1280 Maryland Avenue, SW, Suite 800, Washington, DC 20024, telephone (202) 708-4932 extension 3464. Persons with hearing or speech impairments may access these telephone numbers via TTY by calling the Federal Information Relay Service at (800) 877-8339. Additional information is available from the REAC web site at http://www.hud.gov/reac/.

SUPPLEMENTARY INFORMATION: On November 26, 2001, HUD published two notices that advised of interim scoring processes under HUD's Public Housing Assessment System (PHAS) for the PHAS Physical Condition Indicator (66 FR 59084) and for the PHAS Financial Condition Indicator (66 FR 59126). A third notice, the introductory notice to the two interim scoring processes (66 FR 59080) provided background information on the PHAS and also the basis for proposing interim scoring processes. All three notices solicited public comment but inadvertently omitted the location where public comments could be sent.

This notice published today provides that information. The address for submitted public comments on these notices is as follows:

ADDRESSES: Interested persons are invited to submit comments regarding this rule to the Rules Docket Clerk, Regulations Division, Office of General Counsel, Room 10276, Department of Housing and Urban Development, 451 Seventh Street, SW, Washington, DC 20410. Communications should refer to the above docket number and title. A copy of each communication submitted will be available for public inspection and copying between 7:30 a.m. and 5:30 p.m. weekdays at the above address.

Dated: November 29, 2001.
Aaron Santa Anna,
Assistant General Counsel for Regulations.

[FR Doc. 01-30032 Filed 12-4-01; 8:45 am]

BILLING CODE 4210-67-P